DEPARTMENT OF THE INTERIOR

Fish and Wildlife Service

[FWS-R2-ES-2015-N055; FXES11130200000-156-FF02ENEH00]

Endangered and Threatened Species Permit Applications

AGENCY: Fish and Wildlife Service, Interior.

ACTION: Notice of receipt of applications; request for public comment.

SUMMARY: We, the U.S. Fish and Wildlife Service, invite the public to comment on the following applications to conduct certain activities with endangered or threatened species. The Endangered Species Act of 1973, as amended (Act), prohibits activities with endangered and threatened species unless a Federal permit allows such activities. Both the Act and the National Environmental Policy Act require that we invite public comment before issuing these permits.

DATES: To ensure consideration, written comments must be received on or before May 4, 2015.

ADDRESSES: Susan Jacobsen, Chief, Division of Classification and Restoration, by U.S. mail at Division of Classification and Recovery, U.S. Fish and Wildlife Service, P.O. Box 1306, Albuquerque, NM 87103; or by telephone at 505-248-6920. Please refer to the respective permit number for each application when submitting comments.

FOR FURTHER INFORMATION CONTACT: Susan Jacobsen, Chief, Division of Classification and Restoration, by U.S. mail at P.O. Box 1306, Albuquerque, NM 87103; or by telephone at 505-248-6920.

SUPPLEMENTARY INFORMATION: The Act (16 U.S.C. 1531 et seq.) prohibits activities with endangered and threatened species unless a Federal permit allows such activities. Along with our implementing regulations in the Code of Federal Regulations (CFR) at 50 CFR 17, the Act provides for permits, and requires that we invite public comment before issuing these permits.

A permit granted by us under section 10(a)(1)(A) of the Act authorizes applicants to conduct activities with U.S. endangered or threatened species for scientific purposes, enhancement of survival or propagation, or interstate commerce. Our regulations regarding implementation of section 10(a)(1)(A) permits are found at 50 CFR 17.22 for endangered wildlife species, 50 CFR 17.32 for threatened wildlife species, 50 CFR 17.62 for endangered plant species, and 50 CFR 17.72 for threatened plant species.

Applications Available for Review and Comment

We invite local, State, Tribal, and Federal agencies and the public to comment on the following applications. Please refer to the appropriate permit number (e.g., Permit No. TE-123456) when requesting application documents and when submitting comments.

Documents and other information the applicants have submitted with these applications are available for review, subject to the requirements of the Privacy Act (5 U.S.C. 552a) and Freedom of Information Act (5 U.S.C. 552).

Permit TE-58490B

Applicant: Karen Krebbs, Tucson, Arizona.

Applicant requests a new permit for research and recovery purposes to conduct presence/absence surveys of lesser long-nosed bat (Leptonycteris yerbabuenae) within Arizona.

Permit TE-42739A

Applicant: Sea Life Arizona, Tempe, Arizona.

Applicant requests a renewal to a current permit for research and recovery purposes to conduct husbandry and holding of the following species within Arizona:

• Apache trout (Oncorhynchus apache)

• Bonytail chub (Gila elegans)

• Colorado pikeminnow (Ptychocheilus lucius)

• Desert pupfish (Cyprinodon macularius)

• Humpback chub (Gila cypha)

• Gila topminnow (Poeciliopsis occidentalis)

• Gila trout (Oncorhynchus gilae gilae)

• Green sea turtle (Chelonia mydas)

• Loach minnow (Tiaroga cobitis)

• Razorback sucker (Xyrauchen texanus)

• Spikedace (Meda fulgida)

• Woundfin (Plagopterus argentissimus)

• Yaqui beautiful shiner (Cyprinella formosa)

• Yaqui chub (Gila purpurea)

• Yaqui topminnow (Poeciliopsis occidentalis sonoriensis)

Permit TE-022190

Applicant: Arizona—Sonora Desert Museum, Tucson, Arizona.

Applicant requests a renewal to a current permit for research and recovery purposes to conduct husbandry and holding of the following species within Arizona:

• Bonytail chub (Gila elegans)

• Colorado pikeminnow (Ptychocheilus lucius)

• Desert pupfish (Cyprinodon macularius)

• Gila chub (Gila intermedia)

• Gila topminnow (Poeciliopsis occidentalis)

• Humpback chub (Gila cypha)

• Lesser long-nosed bat (Leptonycteris yerbabuenae)

• Loach minnow (Tiaroga cobitis)

• Masked bobwhite quail (Colinus virginianus ridgwayi)

• Mexican gray wolf (Canis lupus baileyi)

• Mount Graham red squirrel (Tamiasciurus hudsonicus grahamensis)

• Ocelot (Leopardus pardalis)

• Quitobaquito pupfish (Cyprinodon eremus)

• Razorback sucker (Xyrauchen texanus)

• Sonora chub (Gila ditaenia)

• Sonoran tiger salamander (Ambystoma tigrinum stebbinsi)

• Southwestern willow flycatcher (Empidonax traillii extimus)

• Spikedace (Meda fulgida)

• Woundfin (Plagopterus agentissimus)

• Yaqui chub (Gila purpurea)

• Yaqui topminnow (Poeciliopsis occidentalis sonorensis)

Permit TE-30425B

Applicant: David Haygari, Cincinnati, Ohio.

Applicant requests an amendment to a current permit for research and recovery purposes to conduct presence/absence surveys for American burying beetle (Nicrophorus americanus) within Kansas and Nebraska.

Permit TE-837751

Applicant: Bureau of Reclamation, Phoenix, Arizona.

Applicant requests an amendment to a current permit for research and recovery purposes to conduct presence/absence surveys for loach minnow (Rhinichthys cobitis) and spikedace (Meda fulgida) within Arizona.

Permit TE-820730

Applicant: New Mexico Energy, Minerals, and Natural Resources.

Department—Forestry Division, Santa Fe, New Mexico.

Applicant requests a renewal to a current permit for research and recovery purposes to conduct presence/absence surveys and collection of the following plants within New Mexico:

• Argemone pinnatisecta (Sacramento prickly poppy)

• Astragalus humillimus (Mancos milk-vetch)

• Cirsium vinaceum (Sacramento Mountains thistle)

• Coryphantha sneedii var. leei (Lee's pincushion cactus)

• Coryphantha sneedii var. sneedii (Sneed's pincushion cactus)

• Echinocereus fendleri var. kuenzieri (Kuenzler's hedgehog cactus)

• Erigeron rhizomatus (Zuni fleabane)

• Eriogonum gypsophilum (gypsum wild buckwheat)

• Hedeoma todsenii (Todsen's pennyroyal)

• Helianthus paradoxus (Pecos sunflower)

• Ipomopsis sancti-spiritus (Holy Ghost ipomopsis)

• Pediocactus knowltonii (Knowlton's cactus)

• Sclerocactus mesae-verdae (Mesa Verde cactus)

Permit TE-60111B

Applicant: Natalie Robb, Globe, Arizona.

Applicant requests a new permit for research and recovery purposes to conduct presence/absence surveys of the following species within Arizona:

• Arizona hedgehog cactus (Echinocereus triglochidiatus var. arizonicus)

• Desert pupfish (Cyprinodon macularius)

• Gila chub (Gila intermedia)

• Gila topminnow (Poeciliopsis occidentalis)

• Loach minnow (Tiaroga cobitis)

• Southwestern willow flycatcher (Empidonax traillii extimus)

Permit TE-051139

Applicant: Turner Endangered Species Fund, Bozeman, Montana.

Applicant requests an amendment to a current permit for research and recovery purposes to conduct presence/absence surveys; removal and transportation from the wild; captive breeding; and management field activities related to conservation, transportation, and release into suitable unoccupied habitat for Chupadera springsnail (Pyrgulopsis chupaderae) within New Mexico.

Permit TE-168688

Applicant: Sarah Itz, Austin, Texas.

Applicant requests a renewal to a current permit for research and recovery purposes to conduct presence/absence surveys of golden-cheeked warbler (Dendroica chrysoparia) within Texas.

Permit TE-42737A

Applicant: Sevenecoten, LLC., Dripping Springs, Texas.

Applicant requests a renewal to a current permit for research and recovery purposes to conduct presence/absence surveys and nest monitoring of golden-cheeked warbler (Dendroica chrysoparia) and black-capped vireo (Vireo atricapilla) within Texas.

Permit TE-35619A

Applicant: Marvin Miller, Spring Branch, Texas.

Applicant requests a renewal to a current permit for research and recovery purposes to conduct presence/absence surveys of the following species in Texas:

• Bee Creek Cave harvestman (Texella reddelli)

• Bone Cave harvestman (Texella reyesi)

• Braken Bat Cave meshweaver (Cicurina venii)

• Coffin Cave mold beetle (Batrisodes texanus)

• Cokendolpher Cave harvestman (Texella cokendolpheri)

• Government Canyon Bat Cave meshweaver (Cicurina vespera)

• Government Canyon Bat Cave spider (Neoleptoneta microps)

• Ground beetle (Unnamed) (Rhadine exilis)

• Ground beetle (Unnamed) (Rhadine infernalis)

• Helotes mold beetle (Batrisodes venyivi)

• Kretschmarr Cave mold beetle (Texamaurops reddelli)

• Madla Cave meshweaver (Cicurina madla)

• Robber Baron Cave meshweaver (Cicurina baronia)

• Tooth Cave ground beetle (Rhadine persephone)

• Tooth Cave pseudoscorpion (Tartarocreagris texana)

• Tooth Cave spider (Neoleptoneta (=Leptoneta) myopica)

Permit TE-61040B

Applicant: Shenandoah Deer Services, LLC., San Marcos, Texas.

Applicant requests a new permit for research and recovery purposes to conduct presence/absence surveys for golden-cheeked warbler (Dendroica chrysoparia) within Texas.

Permit TE-091552

Applicant: Zane Homesley, Austin, Texas.

Applicant requests aa renewal to a current permit for research and recovery purposes to conduct presence/absence surveys for American burying beetle (Nicrophorus americanus) within Texas and Oklahoma; and for black-capped vireo (Vireo atricapilla), golden-cheeked warbler (Dendroica chrysoparia), southwestern willow flycatcher (Empidonax traillii extimus), and Houston toad (Bufo houstonensis) within Texas.

Permit TE-189566

Applicant: Monica Geick, Littleton, Colorado.

Applicant requests a renewal to a current permit for research and recovery purposes to conduct presence/absence surveys for golden-cheeked warbler (Dendroica chrysoparia) within Texas.

Permit TE-92407A

Applicant: Raven Environmental Services, Inc., Huntsville, Texas.

Applicant requests an amendment to a current permit for research and recovery purposes to conduct surveys using peeper scopes to examine cavities of nesting red-cockaded woodpeckers (Picoides borealis) throughout the range of the species in the United States.

Permit TE-35163A

Applicant: Joseph Grzybowski, Norman, Oklahoma.

Applicant requests a renewal to a current permit for research and recovery purposes to conduct presence/absence surveys of black-capped vireo (Vireo atricapilla) within Oklahoma and Texas.

Permit TE-61045B

Applicant: Jennifer Scott, Yukon, Oklahoma.

Applicant requests a new permit for research and recovery purposes to conduct presence/absence surveys of black-capped vireo (Vireo atricapilla) within Oklahoma and Texas; southwestern willow flycatcher (Empidonax traillii extimus) within Arizona, California, Colorado, Nevada, New Mexico, Texas, and Utah; and Least Bell's vireo (Vireo bellii pusillus) within California.

Permit TE-61046B

Applicant: Christina Perez, Baton Rouge, Louisiana.

Applicant requests a new permit for research and recovery purposes to conduct presence/absence surveys of Americans burying beetle (Nicroporus americans) within Oklahoma.

Permit TE-61048B

Applicant: Veteran Environmental, LLC., Choctaw, Oklahoma.

Applicant requests a new permit for research and recovery purposes to conduct presence/absence surveys of American burying beetle (Nicrophorus americanus) within Arkansas, Texas, and Oklahoma.

Permit TE-61124B

Applicant: Curtis Creighton, Hammond, Indiana.

Applicant requests a new permit for research and recovery purposes to conduct presence/absence surveys of American burying beetle (Nicrophorus americanus) within Oklahoma.

Permit TE-028605

Applicant: SWCA Environmental Consultants, Inc., Flagstaff, Arizona.

Applicant requests a renewal to a current permit for research and recovery purposes to conduct presence/absence surveys of the following species, where they occur, in Arizona, California, Colorado, Nevada, New Mexico, Texas, and Utah:

• Bee Creek Cave harvestman (Texella reddelli)

• Black-footed ferret (Mustela nigripes)

• Bone Cave harvestman (Texella reyesi)

• Bonytail chub (Gila elegans)

• Braken Bat Cave meshweaver (Cicurina venii)

• Coffin Cave mold beetle (Batrisodes texanus)

• Cokendolpher Cave harvestman (Texella cokendolpheri)

• Colorado pikeminnow (Ptychocheilus lucius)

• Comal Springs dryopid beetle (Stygoparnus comalensis)

• Comal Springs riffle beetle (Heterelmis comalensis)

• Desert pupfish (Cyprinodon macularius)

• Gila topminnow (Poeciliopsis occidentalis)

• Government Canyon Bat Cave meshweaver (Cicurina vespera)

• Government Canyon Bat Cave spider (Neoleptoneta microps)

• Ground beetle (Unnamed) (Rhadine exilis)

• Ground beetle (Unnamed) (Rhadine infernalis)

• Helotes mold beetle (Batrisodes venyivi)

• Hualapai Mexican vole (Microtus mexicanus hualpaiensis)

• Kanab ambersnail (Oxyloma haydeni kanabensis)

• Kretschmarr Cave mold beetle (Texamaurops reddelli)

• Lesser long-nosed bat (Leptonycteris yerbabuenae)

• Loach minnow (Tiaroga cobitis)

• Madla Cave meshweaver (Cicurina madla)

• Mexican long-nosed bat (Leptonycteris nivalis)

• Mount Graham red squirrel (Tamasciurus hudsonicus grahamensis)

• Razorback sucker (Xyrauchen texanus)

• Robber Baron Cave meshweaver (Cicurina baronia)

• Southwestern willow flycatcher (Empidonax traillii extimus)

• Spikedace (Meda fulgida)

• Tooth Cave ground beetle (Rhadine persephone)

• Tooth Cave pseudoscorpion (Tartarocreagris texana)

• Tooth Cave spider (Neoleptoneta (=Leptoneta) myopica)

• Woundfin (Plagopterus argentissimus)

• Yaqui chub (Gila purpurea)

• Yuma clapper rail (Rallus longirostris yumanensis)

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority We provide this notice under section 10 of the Act (16 U.S.C. 1531 et seq.)

Dated: March 25, 2015.
Joy E. Nicholopoulos
Acting Regional Director, Southwest Region, U.S. Fish and Wildlife Service.

[FR Doc. 2015-07548 Filed 4-1-15; 8:45 am]

BILLING CODE CODE 4310-55-P